FEDERAL RESERVE SYSTEM

12 CFR Part 204

[Regulation D; Docket No. R-1061]

Reserve Requirements of Depository Institutions

AGENCY: Board of Governors of the Federal Reserve System.

ACTION: Interpretation.

SUMMARY: The Board is amending an interpretation of Regulation D (Reserve Requirements of Depository Institutions) to include the European Central Bank among the institutions that have been specifically designated by the Board as “supranational” entities for purposes of certain time deposits under Regulation D.

EFFECTIVE DATE: March 10, 2000.

FOR FURTHER INFORMATION CONTACT: Oliver I. Ireland, Associate General Counsel (202/452-3625), or Alison MacDonald, Senior Attorney (202/452-3236), Legal Division, Board of Governors of the Federal Reserve System. For the hearing impaired only, Telecommunications Device for the Deaf (TDD), Janice Simms (202/872-4984).

SUPPLEMENTARY INFORMATION: Regulation D (12 CFR part 204) defines those deposits against which depository institutions must maintain reserve balances with a Federal Reserve Bank and sets ratios for those reserves. The regulation imposes a marginal reserve requirement of 10 percent against transaction accounts but exempts international banking facility (“IBF”) time deposits from the reserve requirements and imposes a 0 percent reserve ratio on nonpersonal time deposits. Promissory notes and other obligations issued to “[a]ny * * * foreign, international, or supranational entity specifically designated by the Board” are nonpersonal time deposits and may be IBF time deposits under relevant sections of Regulation D regardless of their maturity (12 CFR 204.2(c)).

Consistent with its designation of other multi-national, regional central banks and other European Community entities as “supranational” entities, the Board has designated the European Central Bank a “supranational” entity for purposes of Regulation D and, thus, is revising § 204.125 to include the European Central Bank. Accordingly, depository institutions receiving deposits from the European Central Bank that comply with the requirements of §§ 204.2(c)(1)(iv)(E) and 204.8(a)(2)(i)(B)(5) of Regulation D do not need to hold reserves against European Central Bank deposits under the regulation.

Regulatory Flexibility Act

The Regulatory Flexibility Act (5 U.S.C. 601-612) requires an agency to publish a regulatory flexibility analysis for any final rule for which the agency was required to publish a general notice of proposed rulemaking. Under 12 U.S.C. 553(b), a general notice of proposed rulemaking is not required for interpretive rules. Accordingly, no regulatory flexibility analysis is required in this case.

Under 12 U.S.C. 553(d), a 30-day period between publication date and effective date is not required for interpretive rules. Accordingly, this interpretation is effective on the date of publication in the Federal Register.

Paperwork Reduction Act

In accordance with the Paperwork Reduction Act Notice of 1995 (44 U.S.C. ch. 3506; 5 CFR Part 1320, Appendix A.1), the Board has reviewed the rule under authority delegated to the Board by the Office of Management and Budget. No collections of information pursuant to the Paperwork Reduction Act are contained in the rule.

List of Subjects 12 CFR Part 204

Banks, banking, Federal Reserve System, Reporting and recordkeeping requirements.

For the reasons set forth in the preamble, the Board is amending part 204 in chapter II of title 12 of the Code of Federal Regulations as follows:

PART 204—RESERVE REQUIREMENTS OF DEPOSITORY INSTITUTIONS (REGULATION D)

1. The authority citation for part 204 continues to read as follows:

Authority: 12 U.S.C. 248(a), 248(c), 371a, 461, 601, 611, and 3105.

2. Section 204.125 is amended as follows:

a. In the introductory text, “§§ 204.2(c)(1)(E)” is removed and “§§ 204.2(c)(1)(iv)(E)” is added in its place;

b. In the listing under Europe, a new entry is added in alphabetical order, to read as follows:

§ 204.125 Foreign, international, and supranational entities referred to in §§ 204.2(c)(1)(iv)(E) and 204.8(a)(2)(i)(B)(5).

* * * * *

Europe

* * * * *

European Central Bank.

* * * * *

By order of the Board of Governors of the Federal Reserve System, March 6, 2000.
Jennifer J. Johnson,
Secretary of the Board.

[FR Doc. 00-5861 Filed 3-9-00; 8:45 am]

BILLING CODE 6210-01-P